DEPARTMENT OF THE TREASURY

Customs Service

Modification and Clarification of Procedures of the National Customs Automation Program Test Regarding Reconciliation; Correction

AGENCY: Customs Service, Treasury.

ACTION: General notice; correction.

SUMMARY: On September 27, 2002, Customs published a document in the Federal Register which announced modifications to the Customs Automated Commercial System (ACS) Reconciliation prototype test and clarified certain aspects of the test. The notice stated that among the topics related to the test for which Customs was providing clarifications and reminders was the “right to file Reconciliation entries.” The language reminding test participants who has the right to file entries under the test was inadvertently omitted from the notice. This document sets forth the omitted language.

DATES: Effective as of November 8, 2002.

FOR FURTHER INFORMATION CONTACT: Mr. John Leonard at (202) 927-0915 or Ms. Christine Furgason at (202) 927-2293. Additional information regarding the test can be found at http://www.customs.gov/recon. Email inquiries may be sent to: Recon.Help@customs.treas.gov.

SUPPLEMENTARY INFORMATION:

Background

A general notice document was published in the Federal Register (67 FR 61200) on Friday September 27, 2002, to announce certain modifications to the Automated Commercial System (ACS) Reconciliation Prototype test regarding NAFTA Reconciliation entries, the method for filing Reconciliation entries covering flagged entry summaries for which liquidated damages have been assessed, acceptance of compact disks for Reconciliation spreadsheets, and applicability to test participants of previously suspended regulatory provisions of part 111, Customs Regulations. The notice also provided clarifications and reminders to test participants regarding certain other aspects of the test and announced a new address for Reconciliation submissions for the port of NY/Newark.

In the third paragraph of the “Background” section of the general notice, it stated that among the topics related to the test for which Customs was providing clarifications and reminders was the “right to file Reconciliation entries.” Inadvertently, the language reminding Reconciliation test participants who has the right to file entries under the test was omitted from the “Clarifications and Reminders” section of the notice.

This document sets forth the omitted language.

Correction

In general notice FR Doc 02-24588, published on September 27, 2002 (67 FR 61200), make the following correction:

On page 61204, in the second column, immediately before the section entitled “Updated Address and ABI Filing Information for NY/Newark Port 1001,” insert the following section:

Right to File Reconciliation Entries

Customs reminds test participants that the filing of a Reconciliation entry, like the filing of a regular consumption entry, is governed by 19 U.S.C. 1484 and can be done only by the importer of record as defined in that statute.

Dated: November 5, 2002.
Jayson P. Ahern,
Assistant Commissioner, Office of Field Operations.

[FR Doc. 02-28464 Filed 11-7-02; 8:45 am]

BILLING CODE 4820-02-P